DEPARTMENT OF HEALTH AND HUMAN SERVICES

National Institutes of Health

National Cancer Institute; Amended Notice of Meeting

Notice is hereby given of a change in the meeting of the Board of Scientific Counselors, National Cancer Institute, July 8, 2024, 10:00 a.m. to July 9, 2024, 02:00 p.m., National Cancer Institute, 9609 Medical Center Drive, Bethesda, MD 20892 which was published in the Federal Register on May 13, 2024, FR Doc. No. 2024-10293, 89 FR 41445.

This meeting notice is being amended to change the meeting type from closed to partially closed. On July 8, 2024, the open session will be held from 10:00 a.m. to 10:35 a.m. and the closed session will now be held from 10:35 a.m. to 1:45 p.m. On July 9, 2024, the closed session will now be held from 10:00 a.m. to 3:00 p.m. The meeting is partially closed to the public.

Dated: May 22, 2024.
David W. Freeman,
Supervisory Program Analyst, Office of Federal Advisory Committee Policy.

[FR Doc. 2024-11728 Filed 5-28-24; 8:45 am]

BILLING CODE 4140-01-P